DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Statement by Ultimate Consignee and Purchaser.

Agency Form Number: BXA-711.

OMB Approval Number: 0694-0021.

Type of Request: Extension of a currently approved collection of information.

Burden: 959 hours.

Average Time Per Response: 16 minutes per response.

Number of Respondents: 3,594 respondents.

Needs and Uses: The Form BIS-711 or letter puts the importer on notice of the special nature of the goods and receive a commitment against illegal disposition. In order to effectively control commodities, BIS must have sufficient information regarding the end-use and end-user of the U.S. origin commodities to be exported. The information will assist the licensing officer in making the proper decision on whether to approve or reject the application for the license.

Affected Public: Individuals, businesses or other for-profit institutions.

Respondent's Obligation: Required to obtain or retain a benefit.

OMB Desk Officer: David Rostker.

Copies of the above information collection proposal can be obtained by calling or writing Diana Hynek, DOC Paperwork Clearance Officer, Office of the Chief Information Officer, (202) 482-0266, Department of Commerce, Room 6625, 14th and Constitution Avenue, NW, Washington, DC 20230.

Written comments and recommendations for the proposed information collection should be sent within 30 days of publication of this notice to David Rostker, OMB Desk Officer, Room 10202, New Executive Office Building, Washington, DC 20230.

Dated: November 22, 2002.
Madeleine Clayton,
Management Analyst, Office of the Chief Information Officer.

[FR Doc. 02-30083 Filed 11-26-02; 8:45 am]

BILLING CODE 3510-33-P